NUCLEAR REGULATORY COMMISSION

[Docket No. 50-389]

Florida Power and Light Company, et al.; Notice of Consideration of Issuance of Amendment to Facility Renewed Operating Licenses, Proposed No Significant Hazards Consideration Determination, and Opportunity for a Hearing

The U.S. Nuclear Regulatory Commission (NRC, the Commission) is considering issuance of an amendment to Facility Renewed Operating License No. NPF-16, issued to Florida Power and Light Company, et al. (the licensee), for operation of the St. Lucie Nuclear Plant, Unit No. 2, located in St. Lucie County, Florida.

The proposed amendment would revise the Technical Specifications (TSs) for the Containment Ventilation System to allow additional corrective actions for inoperable containment purge supply and exhaust valves.

On February 14, 2006, the licensee determined, during a routine surveillance that measures leakage in lines penetrating containment, that a containment purge supply valve at St. Lucie Unit 2 was inoperable. The current TSs require the plant to be shut down if the valve cannot be restored to operable status within 24 hours. Due to the nature of the failure and the uniqueness of the valve, the licensee was unable to repair or replace the valve within the required time frame. Instead, a blank flange was installed in place of the inoperable valve and the leak integrity of the penetration was verified. This alternate corrective action is consistent with the standard TSs for Combustion Engineering plants. Following discussions with the licensee, the NRC staff determined that the alternate corrective action provided adequate safety and a Notice of Enforcement Discretion (NOED) was approved on February 15, 2006, to allow continued operation of St. Lucie Unit 2 with the blank flange in place until the TSs were revised or until March 24, 2006, whichever occurs first. The reason for the exigency is to complete the processing of the proposed amendment within the time frame of the NOED.

Before issuance of the proposed license amendment, the Commission will have made findings required by the Atomic Energy Act of 1954, as amended (the Act) and the Commission's regulations.

Pursuant to 10 CFR 50.91(a)(6) for amendments to be granted under exigent circumstances, the NRC staff must determine that the amendment request involves no significant hazards consideration. Under the Commission's regulations in 10 CFR 50.92, this means that operation of the facility in accordance with the proposed amendments would not (1) Involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

(1) Operation of the facility in accordance with the proposed amendments would not involve a significant increase in the probability or consequences of an accident previously evaluated.

The proposed change to the St. Lucie Unit 2 Technical Specifications will allow isolation of the affected penetration using a closed and de-activated automatic valve with resilient seals or a blind flange in the event that one or more containment purge valves are not within valve leakage limits. This action is consistent with the applicable required actions for Condition E of Specification 3.6.3 of NUREG-1432, “Standard Technical Specifications Combustion Engineering Plants.” The containment purge valves are part of the containment purge and/or the continuous purge/hydrogen purge systems. The containment purge valves are not accident initiators. In addition, neither the containment purge nor the continuous purge/hydrogen purge systems are required for safe shutdown of the reactor or to mitigate the consequences of a design basis accident. The containment purge system is designed to reduce the level of radioactive contamination in the containment atmosphere below the limits of 10 CFR 20 so as to permit personnel access to the containment during shutdown and refueling. The continuous purge/hydrogen purge system is used as a not-nuclear-safety backup to the redundant safety-related hydrogen recombiners which maintain containment hydrogen concentration below 4% after a postulated accident.

Use of a closed and de-activated automatic valve with resilient seals or a blind flange to isolate a failed penetration provides a barrier to the release of radioactivity for those accidents previously evaluated. Therefore, operation of the facility in accordance with the proposed amendments does not involve a significant increase in the probability or consequences of an accident previously evaluated.

(2) Operation of the facility in accordance with the proposed amendments would not create the possibility of a new or different kind of accident from any accident previously evaluated.

The containment purge valves are not accident initiators. Use of a closed and de-activated automatic valve with resilient seals or a blind flange to isolate a failed penetration does not introduce any new failure modes. Therefore, operation of the facility in accordance with the proposed amendments does not create the possibility of a new or different kind of accident from any accident previously evaluated.

(3) Operation of the facility in accordance with the proposed amendments would not involve a significant reduction in a margin of safety.

Use of a closed and de-activated automatic valve with resilient seals or a blind flange to isolate a failed penetration will ensure that the penetration's pressure retention containment isolation safety function continues to be satisfied. There will be no decrease in the ability of the containment purge or the continuous purge/hydrogen purge systems to perform their containment isolation safety function as assumed in the accident analyses. In addition, use of a closed and de-activated automatic valve with resilient seals or a blind flange to isolate a failed containment purge penetration is consistent with the provisions of Condition E of Specification 3.6.3 of NUREG-1432. Therefore, operation of the facility in accordance with the proposed amendments will not involve a significant reduction in a margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 14 days after the date of publication of this notice will be considered in making any final determination.

Normally, the Commission will not issue the amendment until the expiration of the 14-day notice period. However, should circumstances change during the notice period, such that failure to act in a timely way would result, for example, in derating or shutdown of the facility, the Commission may issue the license amendment before the expiration of the 14-day notice period, provided that its final determination is that the amendment involves no significant hazards consideration. The final determination will consider all public and State comments received. Should the Commission take this action, it will publish in the Federal Register a notice of issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Documents may be examined, and/or copied for a fee, at the NRC's Public Document Room, located at One White Flint North, 11555 Rockville Pike (first floor), Rockville, Maryland.

The filing of requests for hearing and petitions for leave to intervene is discussed below.

Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings and Issuance of Orders” in 10 CFR Part 2. Interested persons should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner/requestor must also provide references to those specific sources and documents of which the petitioner/requestor is aware and on which the petitioner/requestor intends to rely to establish those facts or expert opinion. The petitioner/requestor must provide sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

Nontimely requests and/or petitions and contentions will not be entertained absent a determination by the Commission or the presiding officer of the Atomic Safety and Licensing Board that the petition, request and/or the contentions should be granted based on a balancing of the factors specified in 10 CFR 2.309(c)(1)(i)-(viii).

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland, 20852, Attention: Rulemaking and Adjudications Staff; (3) E-mail addressed to the Office of the Secretary, U.S. Nuclear Regulatory Commission, hearingdocket@nrc.gov; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to 301-415-3725 or by e-mail to OGCMailCenter@nrc.gov. A copy of the request for hearing and petition for leave to intervene should also be sent to M. S. Ross, Managing Attorney, Florida Power & Light Company, P.O. Box 14000, Juno Beach, FL 33408-0420, attorney for the licensee.

For further details with respect to this action, see the application for amendment dated February 21, 2006, which is available for public inspection at the Commission's Public Document Room (PDR), located at One White Flint North, Public File Area O1 F21, 11555 Rockville Pike (first floor), Rockville, Maryland. Publicly available records will be accessible electronically from the Agencywide Documents Access and Management System's (ADAMS) Public Electronic Reading Room on the Internet at the NRC Web site http://www.nrc.gov/reading-rm.html. Persons who do not have access to ADAMS or who encounter problems in accessing the documents located in ADAMS, should contact the NRC PDR Reference staff by telephone at 1-800-397-4209, 301-415-4737, or by e-mail to pdr@nrc.gov.

Dated at Rockville, Maryland, this 23rd day of February 2006.
For the Nuclear Regulatory Commission.
Brendan T. Moroney,
Project Manager, Plant Licensing Branch II-2, Division of Operating Reactor Licensing, Office of Nuclear Reactor Regulation.

[FR Doc. E6-2856 Filed 2-28-06; 8:45 am]

BILLING CODE 7590-01-P